DEPARTMENT OF TRANSPORTATION

Federal Aviation Administration

Notice of Availability of Final Environmental Impact Statement (FEIS), Notice of Holding Period for Master Plan Development Including Runway Safety Area Enhancement/Extension of Runway 12-30 and Other Improvements of Gary/Chicago International Airport located in Gary, IN

AGENCY: Federal Aviation Administration (FAA), DOT.

ACTION: Notice of availability, notice of holding period.

SUMMARY: The Federal Aviation Administration (FAA) is issuing this notice to advise the public that a Final Environmental Impact Statement (FEIS)—Master Plan Development Including Runway Safety Area Enhancement/Extension of Runway 12-30 and Other Improvements, Gary/Chicago International Airport, has been prepared and is in a 30-day holding period before a Record of Decision can be signed and issued. Written requests for the FEIS and written comments on the FEIS can be submitted to the individual listed in the FOR FURTHER INFORMATION CONTACT. The holding period will commence on October 22, 2004 and will close on November 22, 2004.

Public Availability: Copies of the FEIS may be viewed during regular business hours at the following locations:

1. Gary/Chicago International Airport, 6001 West Industrial Highway, Gary, Indiana 46406.

2. Chicago Airports District Office, Room 312, Federal Aviation Administration, 2300 East Devon Avenue, Des Plaines, Illinois 60018.

3. Gary Public Library, 220 West 5th Avenue, Gary, Indiana 46402.

4. Hammond Public Library, 564 State Street, Hammond, Indiana 46320.

5. East Chicago Main Library, 2401 East Columbus Drive, East Chicago, Indiana 46312.

6. IU Northwest Library, 3400 Broadway, Gary Indiana 46408.

7. Lake County Main Library, 1919 West 81st Avenue, Merrillville, Indiana 46410-5382.

8. Purdue Calumet Library, 2200 169th Street, Hammond, Indiana 46323-2094.

The FEIS will be available during the Council on Environmental Quality's required 30-day holding period from October 22, 2004 to November 22, 2004. The FAA will accept comments until November 23, 2004 at the address listed in the section entitled for further information contact.

FOR FURTHER INFORMATION CONTACT: Prescott C. Snyder, Airports Environmental Program Manager, Federal Aviation Administration, Airports Division, Room 315, 2300 East Devon Avenue, Des Plaines, Illinois 60018. Mr. Snyder can be contacted at (847) 294-7538 (voice), (847) 294-7036 (facsimile) or by e-mail at 9-AGL-GYY-EIS-Project@faa.gov.

SUPPLEMENTARY INFORMATION: At the request of the Gary/Chicago Airport Authority, the FAA has prepared an Environmental Impact Statement. The review addressed specific improvements at the Gary/Chicago International Airport as identified during the 2001 Airport Master Plan process and the 2003 Railroad Relocation Study, and shown on the 2001 Airport Layout Plan. The following improvements have been grouped into four categories and are identified as ripe for review and decision: (1) Improvements associated with the existing Runway 12-30, the primary air carrier runway at the airport, relocate the E.J. & E. Railroad, acquire land northwest of the airport to allow for modifications to the runway safety area, relocate the airside perimeter roadway (including providing a southwest access roadway), relocate the Runway 12-30 navaids, improve the Runway Safety Area for Runway 12, relocate the Runway 12 threshold to remove prior displacement, and acquire land southeast of the airport, located within or immediately adjacent to the runway protection zone; (2) Extension of Runway 12-30, (1356 feet), relocate the Runway 12-30 navaids, extend parallel taxiway A to the new end of Runway 12, construct deicing hold pads on Taxiway A at Runway 12 and Runway 30, and develop two high-sped exit taxiways; (3) Expansion of the existing passenger terminal to accommodate projected demands; and (4) analysis of sites adjacent to the extended runway for potential aviation related development, including a future new passenger terminal and air cargo area.

The purpose and need for these improvements is reviewed in the FEIS. All reasonable alternative have been considered including the no-action alternative.

Issued in Des Plaines, Illinois on October 8, 2004.
Philip M. Smithmeyer,
Manager, Chicago Airports Districts Office, FAA, Great Lakes Region.

[FR Doc. 04-23382 Filed 10-18-04; 8:45 am]

BILLING CODE 4910-13-M